DEPARTMENT OF TRANSPORTATION

Federal Transit Administration

Notice of Scoping Meetings on Regional Planning Effort To Improve Public Transportation in the Central Wasatch Mountains in Salt Lake and Summit Counties, UT

AGENCY: Federal Transit Administration (FTA), DOT.

ACTION: Notification of Early Scoping Meeting.

SUMMARY: The Federal Transit Administration (FTA) and the Utah Transit Authority (UTA) issue this early scoping notice to advise other agencies and the public that they intend to explore potential alternatives for improving public transportation service to and within the central Wasatch Mountains of Salt Lake County and Summit County, Utah. UTA is conducting this work through formal agreement and partnership with numerous state and local agencies, including Salt Lake County, Summit County, Wasatch Front Regional Council, Salt Lake City, Cottonwood Heights, Sandy City, Park City, Town of Alta, and others. This early scoping process is part of a regional planning effort to examine regional connectivity for the central Wasatch Mountains. This notice invites the public to help frame transportation improvements, while considering the inherent interdependence of watershed protection, wilderness protection, land-use planning, and economic opportunities in the central Wasatch Mountains. This process builds upon prior planning efforts contained in Salt Lake County's “Wasatch Canyons Tomorrow” study and “Mountain Transportation Study” completed in September 2010 and November 2012, respectively.

The early scoping process is intended to support a future National Environmental Policy Act (NEPA) scoping process, as appropriate.

DATES: Two public scoping meetings and one agency scoping meeting, where agencies and the public can learn more about and comment on the proposal, will be held at the following times and locations:

• Public scoping meeting: Tuesday, February 4, 2014, from 4:30 p.m. to 7:30 p.m. at Park City High cafeteria, 1750 Kearns Blvd., Park City, UT

• Public scoping meeting: Wednesday, February 5, 2014, from 4:30 p.m. to 7:30 p.m. at Skyline High School cafeteria, 3251 East 3760 South, Salt Lake City, UT

• Agency scoping meeting: Monday, February 3, 2014, from 10:00 a.m. to 12:00 p.m., Utah Transit Authority, 669 West 200 South, Salt Lake City, UT

At the public and agency scoping meetings, Utah Transit Authority will provide information on the extent of the study area; transportation issues; community and environmental impacts and benefits. Materials will also be available beginning January 21, 2014 on UTA's Web site at www.rideuta.com on the “Wasatch Summit Program” project tab. Scoping materials will also include project background information and the proposed approaches for moving forward. Written scoping comments are requested by March 7, 2014 and can be sent or emailed to the address below, submitted at a public meeting or sent via the comment form to www.rideuta.com.

ADDRESSES: Mary DeLoretto, Senior Program Manager, Utah Transit Authority, 669 West 200 South, Salt Lake City, UT 84101; phone: (801) 741-8808; or emailed to mdeloretto@rideuta.com.

FOR FURTHER INFORMATION CONTACT: Jeffrey Jordan, FTA Environmental Specialist, 12300 West Dakota Avenue, Suite 310, Lakewood, CO 80228; phone: (720) 963-3307; email: jeffrey.jordan.ctr@dot.gov.

SUPPLEMENTARY INFORMATION:

Early Scoping

The early scoping process provides a venue for evaluating the costs, benefits, and preliminary impact identification for a range of transportation alternatives designed to address mobility problems and other locally-identified objectives in the proposed study area. Early scoping for the project will be conducted in accordance with NEPA polices pursuant to the Council on Environmental Quality's regulations and guidance for implementing NEPA, which encourage federal agencies to initiate NEPA early in their planning process, per 40 CFR subsection 1501.2 through 8. The scoping process may begin as soon as there is enough information to describe the proposed alternatives so that the public and relevant agencies can participate effectively. This process is useful when a proposed action involves a broadly defined corridor or study area with an array of modal and alignment alternatives. This early scoping notice solicits public comments on the planning analysis, including the purpose and need for the project, the range of alternatives, and the environmental, transportation and community impacts and benefits to be considered.

Utah Transit Authority, Park City Transit and the Regional Transportation System

Existing conditions: UTA provides 30 minute bus service from the 7200 South and 4500 South TRAX stations to the resorts in the Cottonwood Canyons and once daily bus service between the resorts and downtown Salt Lake City, the University of Utah, and West Valley. This service usually runs from mid-December to mid-April, with no transit service outside the ski season. The PC-SLC Connect, a public bus service connecting Park City and Salt Lake City, runs year long, four times a day Monday through Friday with no service on the weekends. There are currently no public transit options between Summit County and the Cottonwood Canyons.

Transportation Purpose of the Project

UTA invites comments on the following preliminary statement of the project's purpose and need.

The purpose of the project is to improve regional transportation connectivity and to facilitate safe, convenient, and reliable year-round transportation to destinations within the central Wasatch Mountains from the population bases, recreational destinations, and the regional transit networks in the Salt Lake Valley and Park City/Summit County. The need for the project arises from:

• The need to meet the growing connectivity needs of the central Wasatch Mountains for the region's workers and recreationalists by increasing mobility, access and transportation capacity to and from activity centers in the region, as called for by the Utah Unified Transportation Plan, as well as other plans including related county and city comprehensive transportation plans.

• The need to serve increasing worker and recreational trips between Salt Lake City environs and Wasatch Mountain locations in Salt Lake and Summit Counties. There are diverse recreation opportunities in the central Wasatch Mountains in both Salt Lake and Summit Counties, including hiking, picnicking, camping, rock climbing, bird watching, mountain biking, road biking, fishing, skiing (resort, back country, cross-country), snowshoeing, and ice climbing. The demand for improving the transportation options to access these opportunities continues to grow as documented in the Utah Unified Transportation Plan.

• The need to support source water protection goals. The Central Wasatch Mountains, including Big Cottonwood Canyon, Little Cottonwood Canyon, and Parleys Canyon, are the primary sources of drinking water for more than 400,000 people in the Salt Lake Valley. These municipal watersheds are protected for water supply and water quality purposes pursuant to numerous federal, state, and local laws and plans.

• The need to support land use and forest management plan goals. The central Wasatch Mountains have competing environmental, economic, recreation, and stewardship goals that dictate future regional growth concentrations. The U.S. Forest Service completed a Revised Forest System plan for the Wasatch-Cache National Forest and Record of Decision in 2003, which outlines forest management direction for National Forest Lands in the Wasatch Range and canyons. The Forest Plan direction also addresses some future transportation capabilities.

• The need to improve air quality in the Salt Lake City Valley to maintain Environmental Protection Agency (EPA) standards. The Salt Lake Valley is prone to air quality level exceedences during various time of the year. Determining a way to reduce criteria air pollutant emissions through public transportation improvements and demand management is one goal of Utah Department of Environmental Quality's Clean Utah program to maintain or reduce emissions and thus improve air quality.

• The need to improve road safety conditions in the central Wasatch Mountains due to avalanche hazards, road conditions and emergency response. Due to seasonal weather conditions throughout the central Wasatch Mountains, avalanche hazards are high, and emergency response alternatives are limited.

Potential Alternatives

Utah Transit Authority will explore alternative mode, alignment, and design configurations for the central Wasatch Mountains along with active traffic management principles.

There are three main transportation corridors into the central Wasatch Mountains from the Salt Lake Valley: Big Cottonwood Canyon, Little Cottonwood Canyon, and Interstate 80 (Parley's Canyon). Several smaller sub-corridors, or potential minimum operable segments (MOS) with logical termini, were identified in the study area that either connect to one or more of the existing larger corridors. The sub-corridors were identified based on professional evaluation, stakeholder input, and consistency with the Wasatch Front Regional Council Regional Transportation Plan and the Utah Unified Transportation Plan. Specific corridor alternatives that link the existing Wasatch Front regional transit system with the central Wasatch Mountains destinations in Salt Lake and Summit Counties will be developed during the early scoping process.

Alternatives already identified for consideration include:

• The connection from downtown Salt Lake City to the base of Big Cottonwood Canyon

• the connection from downtown Salt Lake City to the base of Little Cottonwood Canyon

• the connection from downtown Salt Lake City to Park City in Summit County via Parley's Canyon

• the base of Big Cottonwood Canyon to the base of Little Cottonwood Canyon

• the base of Big Cottonwood Canyon to Brighton

• the base of Little Cottonwood Canyon to Alta

• Alta to Brighton; and

• Brighton to Park City

Transportation Modes

Various transportation modes being considered include:

• Parking and Roadway Improvements

• Bus Service Improvements

• Bus Rapid Transit (BRT)

• Rail Systems

• Aerial Systems

• Active Traffic Management Principles

UTA may also consider other alternatives that arise during the public comment period. The definition of these alternatives for analysis will reflect a range of high and low cost capital improvements. UTA will identify measures for evaluating the relative merits of alternatives, and technical methodologies for generating the information used to support such measures. These measures will typically include disciplines such as travel forecasting; capital, operations and maintenance costs; and corridor-level environmental and land use analyses.

At the end of the early scoping process, a preferred corridor and mode may emerge for further evaluation in a NEPA environmental document (the classification of which is to be determined). If the preferred mode and corridor involve the potential for significant environmental impacts requiring an Environmental Impact Statement (EIS), and FTA determines that there is a potential for FTA funding, a Notice of Intent to Prepare an EIS will be published in the Federal Register and public and agency comment on the scope of the EIS will be invited and considered at that time.

Issued on: January 2, 2014.
Linda M. Gehrke,
Regional Administrator, FTA Region 8.

[FR Doc. 2014-00230 Filed 1-9-14; 8:45 am]

BILLING CODE P